NATIONAL ARCHIVES AND RECORDS ADMINISTRATION

Public Availability of the National Archives and Records Administration FY 2011 Service Contract Inventory

AGENCY: National Archives and Records Administration.

ACTION: Notice of public availability of FY 2011 Service Contract Inventory.

SUMMARY: In accordance with Section 743 of Division C of the Consolidated Appropriations Act of 2010 (Pub. L. 111-117), the National Archives and Records Administration (NARA) is publishing this notice to advise the public of the availability of its FY 2011 Service Contract inventory. This inventory provides information on service contract actions over $25,000 that were made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. NARA has posted its inventory and a summary of the inventory on the NARA homepage at the following link: http://www.archives.gov/contracts/.

FOR FURTHER INFORMATION CONTACT: Robert Singman, Deputy Director Acquisitions Division, National Archives and Records Administration, 8601 Adelphi Road, College Park, MD 20740-6001. Telephone: 301-837-0712. Email: Robert.singman@nara.gov.

Dated: February 3, 2012.
Charles K. Piercy,
Executive Business Support Services.

[FR Doc. 2012-3078 Filed 2-9-12; 8:45 am]

BILLING CODE 7515-01-P